DEPARTMENT OF AGRICULTURE

Forest Service

Acker Fire Salvage, Umpqua National Forest, Douglas County, OR

AGENCY: Forest Service, USDA.

ACTION: Notice of intent to prepare an environmental impact statement.

SUMMARY: The USDA Forest Service will prepare an environmental impact statement (EIS) for the Acker Fire Salvage within the Buckeye and Skillet/Emerson Facial 6th Field sub-watersheds on the Tiller Ranger District of the Umpqua National Forest. During 2002, the Acker Creek fire created about 1,600 acres of canopy mortality in both the Buckeye and Skillet/Emerson Facial 6th Field sub-watersheds. Of this total, about 600 acres of mature or late seral trees were killed or are dying. These trees represent a substantial economic value to nearby communities and ecological value to species that depend on large wood. The sub-watershed is about 120 miles south and east of Roseburg, and 120 miles north and east of Medford, Oregon. Proposed activities include the harvest of dead and dying trees through a commercial timber sale on about 350 acres in the matrix land allocation, and the planting of the harvested areas with a mixture of native conifers, hardwoods, shrubs and forbs. This proposal complies with the 1990 Umpqua National Forest Land and Resource Management Plan (Forest Plan), as amended. The Wildfire Effects Evaluation Project (2003) disclosed the effects of the Acker Fire on the Buckeye and Skillet/Emerson Facial 6th Field sub-watersheds. Forest Service plans to implement salvage portion of proposal by the fall of 2004 and post-sale activities, such as planting harvested areas, in the winter of 2005. The Forest Service gives notice of the full environmental analysis and decision-making process that will occur on the proposal so that interested and affected people may become aware of how they can participate in the process and contribute to the final decision.

DATES: Comments concerning the scope of the proposal should be received in writing by July 25, 2003.

ADDRESSES: Send written comments to James A. Caplan, Forest Supervisor, Umpqua National Forest, P.O. Box 1008, Roseburg, Oregon 97470.

FOR FURTHER INFORMATION CONTACT: Direct questions about the proposed action or EIS to Alan Baumann, Timber Management Assistant, Tiller Ranger District, 27812 Tiller Trail Hwy., Tiller, Oregon 97484; e-mail: abaumann@fs.fed.us; Phone: 541-825-3201.

SUPPLEMENTARY INFORMATION: The Acker Fire Salvage planning area comprises about 14,200 acres of which about 300 acres (2 percent) are private lands. About 1,400 acres of plantations were burned in the Matrix portion of the fire complex and will need to be re-established. There are no planned activities within the inventoried roadless area or the Rogue-Umpqua Divide Wilderness. The Planning Area includes all or portions of sections 1, 11-16, and 22-24, T. 29S, R. 1E; and sections 6, 7, 18 or 19, T. 29S, R. 2E, Willamette Meridian, Douglas County, Oregon.

Purpose and Need for Action. There is a need to salvage merchantable dead and dying trees for the purpose of recovering salvageable volume from fire damaged trees and begin essential reforestation efforts. There is a need to maintain the ecological base for species that depend on large wood on the forest floor or standing as snags. The trees are within the Acker Planning Area and will be removed in a manner consistent with the Forest Plan.

Proposed Action. The proposed action is to harvest about 350 acres of mature and late serial dead and dying trees, spread throughout 15 separate timber stands, from a total of 1600 acres (plantations and older forest) that had canopy mortality in the Acker Fire. Of these dead trees, about 2 to 6 trees per acre will be left as coarse down wood and snags.

No new roads are being planned. Additionally, riparian reserves will not be included in salvage plans nor will green trees be cut except for safety purposes. The proposed harvest is in the matrix lands allocation of the Buckeye and Skillet/Emerson Facial 6th Field sub-watersheds. Upon completion of harvest activities, the area will be planted with a mixture of conifers and hardwoods including: Douglas-fir; Ponderosa pine, sugar and white pine; western red cedar and incense-cedar; willow and red alter; Pacific yew; and other native trees, hardwoods and shrubs.

This analysis will consider a range of alternatives that will address the purpose and need for the proposed project. The no-action alternative will be part of this range so that effects associated with not implementing any of the proposed activities can be evaluated. Preliminary issues identified include effects on: soil productivity, fuels reduction, water quality, diameter harvest limits and invasive weeds.

Scoping Process. The Umpqua National Forest is seeking public input on this proposed action. A comment sheet will be posted to the Forest website and were requested with the mailing of the scoping letter. The proposed action will be published in the Umpqua National Forest Quarterly Schedule of Proposed Actions and posted on the Forest website on the Internet: http://www.fs.fed.us/r6/umpqua/planning/planning1.html.

The forest Service will be seeking additional information, comments, and assistance from Federal, State and local agencies, tribal governments, and other individuals or organizations who may be interested or affected by the proposed project. Public meetings and field trips are scheduled. Dates and locations for these activities will be announced. The scoping process will include identifying: issues; alternatives to the proposed action; and potential environmental effects (that is, direct, indirect and, cumulative effects) of the proposed action and alternatives.

Comment Requested. Comments received in response to this notice and through scoping, include names and addresses of those who comment, will be considered part of the public record on this proposed action and will be available for public inspection. Comments submitted anonymously will be accepted and considered; however, those who submit anonymous comments will not have standing to appeal the subsequent decision under 36 CFR Part 215. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

Early Notice of Importance of Public Participation in Subsequent Environmental Review: The draft EIS is expected to be filed with the Environmental Protection Agency (EPA) and available for public review September 2003. The comment period on the draft EIS will be 45 days from the date the EPA publishes the notice of availability in the Federal Register. The final EIS is scheduled to be available December 2003.

The Forest Service believes, at this early stage, it is important to give reviewers notice of several court rulings related to public participation in the environmental review process. First, reviewers of a draft EIS must structure their participation in the environmental review of the proposal so that it is meaningful and alerts an agency to the reviewer's position and contentions. Vermont Yankee Nuclear Power Corp. v. NRDC, 435 U.S. 519, 553 (1978). Also, environmental objections that could be raised at the draft EIS stage, but that are not raised until after completion of the final EIS, may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act of 40 CFR 1503.3 in addressing these points. Comments received, including the names and addresses of those who comment, will be considered part of the public record on this proposal and will be available for public inspection.

In the final EIS, the Forest Service is required to respond to substantive comments and responses received during the comment period that pertain to the environmental consequences discussed in the draft EIS and applicable laws, regulations, and policies considered in making a decision regarding the Acker Fire Salvage. The Responsible Official is James A. Caplan, Forest Supervisor, Umpqua National Forest. The Responsible Official will document the decision and rationale for the Acker Fire Salvage decision in the Record of Decision. The decision will be subject to review under Forest Service Appeal Regulations (36 CFR Part 215).

Dated: June 10, 2003.
James A. Caplan,
Forest Supervisor.

[FR Doc. 03-15849 Filed 6-23-03; 8:45 am]

BILLING CODE 3410-11-M